DEPARTMENT OF ENERGY

[GDO Docket No. EA-501]

Application To Export Electric Energy, EDC Power, LLC

AGENCY: Grid Deployment Office, Department of Energy.

ACTION: Notice of application.

SUMMARY: EDC Power, LLC (the Applicant or EDC POWER) has applied for authorization to transmit electric energy from the United States to Mexico pursuant to the Federal Power Act.

DATES: Comments, protests, or motions to intervene must be submitted on or before March 20, 2023.

ADDRESSES: Comments, protests, motions to intervene, or requests for more information should be addressed by electronic mail to Electricity.Exports@hq.doe.gov.

FOR FURTHER INFORMATION CONTACT: Steven Blazek, (240) 474-2780, electricity.exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export. (16 U.S.C. 824a(e)). On June 13, 2022, the authority to issue such orders was delegated to the DOE's Grid Deployment Office (GDO) under Delegation Order No. S1-DEL-S3-2022-2 and Redelegation Order No. S3-DEL-GD1-2022.

On July 12, 2022, EDC POWER filed an application with DOE (Application or App) for authority “to transmit electric energy across international transmission facilities into Mexico as a power-marketer for a term of five years.” App at 1. EDC POWER states that it is “incorporated under the laws of Texas with its principal place of business in Houston, Texas” and adds that it “is the wholly owned subsidiary of EDECSAMEX, S.A. de C.V. (“EDECSAMEX”), a company incorporated in Mexico.” EDC POWER represents that energy it “proposes to export to Mexico will be purchased as excess energy from third parties, such as electric utilities and federal power marketing agencies, pursuant to voluntary agreements, and wheeled over existing transmission facilities owned by third parties.” Id. Additionally, “neither EDC Power, nor any of its owners, own or control (nor hold an interest in other entities that own or control) any electric power generation or transmission facilities within the United States. Additionally, neither EDC POWER nor any of its owners hold a franchised electric power service area nor have a native load obligation.” Id at 2.

EDC POWER represents that “[a]s the electric power that EDC POWER plans to export to Mexico will be excess supply, its commercial plan does not impact native load requirements. Moreover, as the electric power it plans to export will be wheeled over transmission facilities owned and operated by third parties, it will not affect reliability of the ERCOT [Electric Reliability Council of Texas] transmission network, or other networks if and when it expands its commercial plan into other markets. Therefore, the export of electric energy to Mexico by EDC POWER will not impact the sufficiency of electric supply nor the reliability of the transmission grid.” Id at 2-3.

The existing international transmission facilities to be utilized by EDC Power are set forth in Exhibit C to its Application and have been previously authorized by Presidential permits issued pursuant to Executive Order 10485, as amended, and are appropriate for open access transmission by third parties.

PROCEDURAL MATTERS: Any person desiring to be heard in this proceeding should file a comment or protest to the Application at the address provided above. Protests should be filed in accordance with Rule 211 of the Federal Energy Regulatory Commissions' (FERC) Rules of Practice and Procedure (18 CFR 385.211). Any person desiring to become a party to this proceeding should file a motion to intervene at the above address in accordance with FERC Rule 214 (18 CFR 385.214).

Comments and other filings concerning EDC POWER's Application should be clearly marked with GDO Docket No. EA-501. Additional copies are to be provided directly to Vahid Sadeghpour, Manager—EDC Power, LLC, 2615 Centenary Street, Houston, Texas 77005, (713) 851-0473, vsadeghpour@edecsa.net, and Gregory Arroyo, Jr., Counsel—EDC Power, LLC, 124 Palm Blvd., Missouri City, TX 77459, (713) 907-5505, garroyo@edecsa.net.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications or by emailing electricity.exports@hq.doe.gov.

Signing Authority: This document of the Department of Energy was signed on February 13, 2023, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on February 14, 2023.
Treena V. Garrett,
Federal Register Liaison Officer, U.S. Department of Energy.

[FR Doc. 2023-03374 Filed 2-16-23; 8:45 am]

BILLING CODE 6450-01-P